DEPARTMENT OF ENERGY

Federal Energy Regulatory Commission

[Project No. 13679-000]

JD Products, LLC; Notice of Preliminary Permit Application Accepted for Filing and Soliciting Comments, Motions to Intervene, and Competing Applications

June 18, 2010.

On March 2, 2010, JD Products, LLC (JD Products) filed an application for a preliminary permit, pursuant to section 4(f) of the Federal Power Act, proposing to study the feasibility of the proposed San Onofre OWEG Electricity Farm Project (project). The proposed project would utilize 11,443 Ocean Wave Electricity Generation (OWEG) units, an experimental technology, with an estimated installed capacity of 3,186 megawatts. The requested project boundary comprises of approximately 2 square nautical miles of coastal waters and lands located along the coast of San Diego County, California, including portions of the San Onofre California State Park.

The sole purpose of a preliminary permit, if issued, is to grant the permit holder priority to file a license application during the permit term. A preliminary permit does not authorize the permit holder to perform any land disturbing or construction activities or to otherwise enter upon lands or waters owned by others without the owners' express permission.

Applicant Contact: Dr. Chong Hun Kim, PhD, JD Products, LLC., 16807 Woodridge Circle, Fountain Valley, CA 92708; (714) 767-7553; or via e-mail at chong.kim@jdproductsllc.com.

FERC Contact: Kenneth Hogan, (202) 502-8434, or via e-mail at: Kenneth.hogan@ferc.gov.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-13679) in the docket number field to access the document. For assistance, contact FERC Online Support.

Kimberly D. Bose,
Secretary.

[FR Doc. 2010-15393 Filed 6-24-10; 8:45 am]

BILLING CODE 6717-01-P